DEPARTMENT OF THE INTERIOR

National Park Service

Notice of Intent to Repatriate a Cultural Item: Field Museum of Natural History, Chicago, IL

AGENCY: National Park Service, Interior.

ACTION: Notice.

Notice is here given in accordance with the Native American Graves Protection and Repatriation Act (NAGPRA), 25 U.S.C. 3005, Sec. 7, of the intent to repatriate a cultural item in the possession of the Field Museum of Natural History, Chicago, IL, that meets the definition of “sacred object” under 25 U.S.C. 3001.

This notice is published as part of the National Park Service’s administrative responsibilities under NAGPRA, 25 U.S.C. 3003, Sec. 5 (d)(3). The determinations within this notice are the sole responsibility of the museum, institution, or Federal agency that has control of these cultural items. The National Park Service is not responsible for the determinations within this notice.

The cultural item is a Thunder Clan War Bundle, which consists of a club, a pipe and rest, 13 whistles, animal skins, 3 small containers, a fire drill, a headpiece, and a rattle.

The museum purchased the war bundle in 1926 in Winnebago, NE, from Oliver La Mere, a member of the Winnebago Tribe of Nebraska. The museum accessioned the war bundle into its collection the same year.

The war bundle is culturally affiliated with the Ho-Chunk people, who are now the Ho-Chunk Nation of Wisconsin and the Winnebago Tribe of Nebraska. In a letter dated April 20, 1998, the Winnebago Tribe of Nebraska advised the museum that, “[t]he Repatriation Department, representing the Winnebago Tribe of Nebraska has agreed to let the Ho-Chunk Nation of Wisconsin repatriate the sacred Thunder Clan War Bundle (Catalog No. 155613) from the Chicago Field Museum in Chicago. The Winnebago Tribe has agreed that all War Bundles go back to Wisconsin, even though they come from Nebraska, because the Ho-Chunk Nation still does War Bundle ceremonies.” Based on this letter and other information provided to the museum by the Ho-Chunk Nation of Wisconsin, it is the museum’s understanding that the Winnebago Tribe of Nebraska no longer practices the traditional ways of the Ho-Chunk people and that the Winnebago Tribe of Nebraska will not seek repatriation of the war bundle pursuant to NAGPRA.

Officials of the museum have determined that, pursuant to 25 U.S.C., Sec. 2 (3)(C), this cultural item is a specific ceremonial object needed by traditional Native American religious leaders for the practice of traditional Native American religions by their present-day adherents.

Officials of the museum also have determined that, pursuant to 25 U.S.C. 3001, Sec. 2 (2), there is a relationship of shared group identity that can be reasonably traced between the war bundle and the Winnebago Tribe of Nebraska and the Ho-Chunk Nation of Wisconsin.

Officials of the museum recognize that the war bundle is significant to the Ho-Chunk Nation of Wisconsin, and assert that the museum has right of possession of the war bundle. However, the museum has reached an agreement with the Ho-Chunk Nation of Wisconsin that will allow the museum to return the war bundle to the tribe pursuant to the compromise of claim provisions of the museum’s repatriation policy. The museum will return the war bundle to the Ho-Chunk Nation of Wisconsin in reliance upon passage by the Ho-Chunk Nation Legislature on November 4, 2002, of Resolution #11-04-02B, “Tribal Property Rights of Repatriated Items,” which identifies the war bundle as a sacred object and provides that any object repatriated to the Ho-Chunk Nation of Wisconsin shall be considered property of the Ho-Chunk Nation of Wisconsin and shall be inalienable from the tribe.

Representatives of any other Indian tribe that believes itself to be culturally affiliated with this sacred object should contact Jonathan Haas, MacArthur Curator of North American Anthropology, Field Museum of Natural History, 1400 South Lake Shore Drive, Chicago, IL 60605, telephone (312) 665-7829, before April 7, 2003. Repatriation of this sacred object to the Ho-Chunk Nation of Wisconsin may proceed after that date if no additional claimants come forward.

The Field Museum of Natural History is responsible for notifying the Ho-Chunk Nation of Wisconsin and the Winnebago Tribe of Nebraska that this notice has been published.

December 17, 2002.
John Robbins,
Assistant Director, Cultural Resources Stewardship and Partnerships.

[FR Doc. 03-5514 Filed 3-6-02; 8:45 am]

BILLING CODE 4310-70-S